SOCIAL SECURITY ADMINISTRATION

Agency Information Collection Activities: Proposed Request

The Social Security Administration (SSA) publishes a list of information collection packages that will require clearance by the Office of Management and Budget (OMB) in compliance with Public Law 104-13, the Paperwork Reduction Act of 1995, effective October 1, 1995. The information collection packages that may be included in this notice are for new information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the SSA Reports Clearance Officer. The information can be mailed and/or faxed to the individuals at the addresses and fax number listed below:

(SSA), Social Security Administration, DCFAM, Attn: Reports Clearance Officer, 1333 Annex Building, 6401 Security Blvd., Baltimore, MD 21235. Fax: 410-965-6400. E-mail: OPLM.RCO@ssa.gov.

The information collection listed below is pending at SSA and will be submitted to OMB within 60 days from the date of this notice. Therefore, your comments should be submitted to SSA within 60 days from the date of this publication. You can obtain copies of the collection instruments by calling the SSA Reports Clearance Officer at 410-965-0454 or by writing to the address listed above.

Redetermination of Eligibility for Help with Medicare Prescription Drug Plan Costs—0960-NEW. Under the aegis of the Medicare Modernization Act of 2003 (Pub. L. 108-173), SSA will conduct low-income subsidy eligibility redeterminations for Medicare beneficiaries who filed for the subsidy and were determined by SSA to be eligible. Subsidy eligibility redeterminations will be conducted when: (1) Medicare Part D subsidy beneficiaries use form SSA-1026-RET to report a change in income, resources, or household information in response to SSA's inquiry via form SSA-L1026; (2) Medicare Part D subsidy beneficiaries report a change in income, resources, or household information on their own using form SSA-1026-RET; (3) Medicare Part D subsidy beneficiaries use form SSA-1026-SCE to report a subsidy-changing event which could potentially impact the amount of their subsidy, including marriage, separation, divorce/annulment, or spousal death. The respondents are current recipients of the Medicare Part D low-income subsidy who will undergo an eligibility redetermination for one of the reasons mentioned above. Following is a description of the forms in this collection, the number of respondents who will complete them, and their burden data.

Form | Explanation | Number of respondents | Frequency of response (per year) | Average burden per response (in minutes) | Estimated annual burden (in hours)
SSA-L1026 | Passive redetermination letter informing Medicare Part D subsidy recipients what income, resource, and household information SSA has on file for them, and asking if this information has changed | 1,500,000 | 1 | 5 | 125,000
SSA-1026-RET | Redetermination form completed by Medicare Part D subsidy recipients who said their income, resource, or household information had changed in their response to form SSA-L1026. Beginning in 2007, this form will also be used as a cyclical redetermination form to be completed by Medicare Part D subsidy recipients who are automatically sent the form based on certain profile/selection criteria | 300,000 | 1 | 20 | 100,000
SSA-1026-SCE | Redetermination form completed by Medicare Part D subsidy recipients who called SSA to inform them of an event which is potentially subsidy-changing (marriage, divorce, annulment, legal separation, spousal death). This form, which is identical to form SSA-1026-RET but has a different cover sheet, will replace form OMB No. 0960-0703 (SSA-1020-SC) | 76,000 | 1 | 20 | 25,333
Total |  | 1,876,000 | — | — | 250,333

Dated: December 23, 2005.
Elizabeth A. Davidson,
Reports Clearance Officer, Social Security Administration.

[FR Doc. E5-8094 Filed 12-29-05; 8:45 am]

BILLING CODE 4191-02-P